DEPARTMENT OF LABOR

Employment and Training Administration

Notice of a Change in Status of the Extended Benefit (EB) Program for New Jersey

AGENCY: Employment and Training Administration, Labor.

ACTION: Notice.

This notice announces a change in benefit period eligibility under the EB program that has occurred since the publication of the last notice regarding the State's EB status (see SUPPLEMENTARY INFORMATION for more details).

Information for Claimants

The duration of benefits payable in the EB program, and the terms and conditions on which they are payable, are governed by the Federal-State Extended Unemployment Compensation Act of 1970, as amended, and the operating instructions issued to the states by the U.S. Department of Labor. In the case of a state ending an EB period, the State Workforce Agency will furnish a written notice to each individual who is currently filing a claim for EB of the forthcoming end of the EB period and its effect on the individual's rights to EB (20 CFR 615.13(c)(4)).

FOR FURTHER INFORMATION CONTACT: U.S. Department of Labor, Employment and Training Administration, Office of Unemployment Insurance Room S-4524, Attn: Kevin Stapleton, 200 Constitution Avenue NW, Washington, DC 20210, telephone number (202) 693-3009 (this is not a toll-free number) or by email: Stapleton.Kevin@dol.gov.

SUPPLEMENTARY INFORMATION: Based on the data released by the Bureau of Labor Statistics on March 14, 2022, the seasonally-adjusted Total Unemployment Rate (TUR) for New Jersey fell below the 6.5% threshold necessary to remain “on” in EB. Therefore the payable period in EB for New Jersey will end on April 9, 2022. The trigger notice covering state eligibility for the EB program can be found at: http://ows.doleta.gov/unemploy/claims_arch.as.

Signed in Washington, DC.
Angela Hanks,
Acting Assistant Secretary for Employment and Training, Labor.

[FR Doc. 2022-07092 Filed 4-4-22; 8:45 am]

BILLING CODE 4510-FW-P